FEDERAL TRADE COMMISSION

16 CFR Part 305

[3084-AB15]

Energy Labeling Rule

AGENCY: Federal Trade Commission.

ACTION: Notice of proposed rulemaking.

SUMMARY: The Federal Trade Commission (“FTC” or “Commission”) proposes routine updates to comparability range information on EnergyGuide labels for televisions, refrigerators and freezers, dishwashers, water heaters, room air conditioners (ranges only), clothes washers, furnaces, and pool heaters in the Energy Labeling Rule (“Rule”). The proposed amendments also contain a minor, clarifying change to requirements for determining room air conditioner capacity.

DATES: Comments must be received by July 11, 2022.

ADDRESSES: Interested parties may file a comment online or on paper, by following the instructions in the Request for Comment part of the SUPPLEMENTARY INFORMATION section below. Write “Range Updates, Matter No. R611004” on your comment, and file your comment online at https://www.regulations.gov/, by following the instructions on the web-based form. If you prefer to file your comment on paper, mail your comment to the following address: Federal Trade Commission, Office of the Secretary, Mail Stop H-144, 600 Pennsylvania Avenue NW, Washington, DC 20580.

FOR FURTHER INFORMATION CONTACT: Hampton Newsome, (202) 326-2889, Attorney, Division of Enforcement, Bureau of Consumer Protection, Federal Trade Commission, 600 Pennsylvania Avenue NW, Washington, DC 20580.

SUPPLEMENTARY INFORMATION:

I. Background

The Commission issued the Energy Labeling Rule (“Rule”) in 1979,¹ pursuant to the Energy Policy and Conservation Act of 1975 (“EPCA”).² The Rule requires energy labeling for major home appliances and other consumer products to help consumers compare competing models. It also contains labeling requirements for refrigerators, refrigerator-freezers, freezers, dishwashers, water heaters, clothes washers, room air conditioners, furnaces, central air conditioners, heat pumps, plumbing products, lighting products, ceiling fans, and televisions.

¹ 44 FR 66466 (Nov. 19, 1979).

² 42 U.S.C. 6294. EPCA also requires the Department of Energy (DOE) to develop test procedures that measure how much energy appliances use, and to determine the representative average cost a consumer pays for different types of energy.

The Rule requires manufacturers to attach yellow EnergyGuide labels to many covered products and prohibits retailers from removing these labels or rendering them illegible. In addition, it directs sellers, including retailers, to post label information on websites and in paper catalogs from which consumers can order products. EnergyGuide labels for most covered products contain three key disclosures: Estimated annual energy cost, a product's energy consumption or energy efficiency rating as determined by DOE test procedures, and a comparability range displaying the highest and lowest energy costs or efficiency ratings for all similar models. For cost calculations, the Rule specifies national average costs for applicable energy sources (e.g., electricity, natural gas, oil) based on DOE estimates. Under the Rule, the Commission periodically updates comparability range and annual energy cost information based on manufacturer data submitted pursuant to the Rule's reporting requirements. The Rule sets a five-year schedule for updating range of comparability and annual energy cost information.³ Pursuant to that schedule the Commission proposes the following amendments.

³ 16 CFR 305.12.

II. Proposed Amendments

As discussed below, the Commission proposes to update comparability ranges and national average energy cost figures (Appendix K1 and K2) for several product categories consistent with the Rule's five-year schedule. The proposed amendments also update § 305.10 to clarify that manufacturers must determine capacity for room air conditioners using current DOE requirements.

A. Comparability Range and Energy Cost Revisions

In accordance with the Rule's five-year schedule for comparability range updates (§ 305.12), this Document proposes revisions to the comparability range and energy cost information in the Rule's appendices for televisions, refrigerators and freezers, dishwashers, water heaters, room air conditioners (ranges only), clothes washers, furnaces, and pool heaters.⁴ In addition, the Commission proposes updating the average energy cost figures manufacturers must use to calculate a model's estimated energy cost for the label based on national average cost figures published by DOE.⁵ Specifically, the proposed amendments update the energy cost tables in Appendix K1 and K2.⁶ This document also contains proposed conforming changes to the sample labels in the Rule's appendices to reflect the new range and cost information.

⁴ 16 CFR 305.12. The capacity categories in the Room Air Conditioner table (Appendix E) have been slightly adjusted to reflect changes in the size distribution in DOE current model data.

⁵ 87 FR 12681 (March 7, 2022) (DOE publication for “Representative Average Unit Costs of Energy”). Fuel costs in the FTC tables in Appendix K1 and K2 are rounded to the nearest cent.

⁶ Applicable energy cost figures for televisions appear in section 305.25.

Pursuant to 305.12, manufacturers must begin using this information on new product labels within 90 days after publication of a final notice announcing updated ranges for specific products.⁷ Manufacturers do not have to relabel products labeled prior to the effective date of the changes. For room air conditioners, the Commission proposes setting an October 1, 2022 effective date for those ranges because this label must appear on product boxes, and such package changes can require additional planning and coordination. The proposed October date coincides with the annual production cycle (i.e., the cooling season) for those products.

⁷ Under EPCA (42 U.S.C. 6294(c)(1)(B)), manufacturers must use updated range data beginning 60 days after final ranges are published unless the Commission provides for a later date. Section 305.12(b) has a period of 90 days.

The Commission does not propose amending range and cost information for central air conditioner and portable air conditioner labels because the Commission recently updated those ranges.⁸ Additionally, the Commission does not propose changing the cost figure for room air conditioner labels because such a change would make room air conditioner labels inconsistent with cost information on portable air conditioners, a similar product category. Accordingly, the electricity cost figure (¢13/kWh) for those two categories appear in Appendix K2 and has been used to create the room air conditioner ranges (Appendix E) in the proposed amendments.

⁸ See 86 FR 9274 (Feb. 12, 2021) (portable air conditioners); 86 FR 57985 (Oct. 20, 2021) (central air conditioners). Because the amendments in those documents are scheduled to become effective on October 1, 2022 and January 1, 2023—after the likely effective date for the amendments proposed in this document—the Commission will make technical, conforming changes to the instructions in those documents as necessary to ensure consistency (e.g., Appendices E and K).

B. Capacity Determinations for Room Air Conditioners

Finally, the proposed amendments update § 305.10 to clarify that manufacturers must determine capacity for room air conditioners using current DOE requirements. Specifically, the amendment eliminates obsolete text related to rounding and updates references to existing DOE requirements for capacity determinations. The Commission proposes making the change effective on October 1, 2022 to coincide with the effective date of the Commission's previously published requirements for EnergyGuide labels for portable air conditioners.⁹

⁹ 86 FR 9274 (Feb. 12, 2022).

III. Request for Comment

The Commission seeks comment on the amendments proposed in this document. You can file a comment online or on paper. For the Commission to consider your comment, we must receive it on or before July 11, 2022. Write “Range Updates, Matter No. R611004” on your comment. Your comment—including your name and your state—will be placed on the public record of this proceeding, including, to the extent practicable, on the website https://www.regulations.gov.

Because of the public health emergency in response to the COVID-19 outbreak and the agency's heightened security screening, postal mail addressed to the Commission will be subject to delay. We strongly encourage you to submit your comments online through the https://www.regulations.gov website. To ensure the Commission considers your online comment, please follow the instructions on the web-based form.

If you file your comment on paper, write “Range Updates, Matter No. R611004” on your comment and on the envelope, and mail your comment to the following address: Federal Trade Commission, Office of the Secretary, Mail Drop H-144, 600 Pennsylvania Avenue NW, Washington, DC 20580.

Because your comment will be placed on the public record, you are solely responsible for making sure your comment does not include any sensitive or confidential information. Your comment should not contain sensitive personal information, such as your or anyone else's Social Security number; date of birth; driver's license number or other state identification number or foreign country equivalent; passport number; financial account number; or credit or debit card number. You are also solely responsible for making sure your comment does not include any sensitive health information, such as medical records or other individually identifiable health information. In addition, your comment should not include any “[t]rade secret or any commercial or financial information which . . . is privileged or confidential”—as provided in Section 6(f) of the FTC Act, 15 U.S.C. 46(f), and FTC Rule 4.10(a)(2), 16 CFR 4.10(a)(2)—including competitively sensitive information such as costs, sales statistics, inventories, formulas, patterns, devices, manufacturing processes, or customer names.

Comments containing material for which confidential treatment is requested must be filed in paper form, must be clearly labeled “Confidential,” and must comply with FTC Rule 4.9(c), 16 CFR 4.9(c). In particular, the written request for confidential treatment that accompanies the comment must include the factual and legal basis for the request and must identify the specific portions of the comment to be withheld from the public record. See FTC Rule 4.9(c). Your comment will be kept confidential only if the General Counsel grants your request in accordance with the law and the public interest. Once your comment has been posted publicly at www.regulations.gov—as legally required by FTC Rule 4.9(b), 16 CFR 4.9(b)—we cannot redact or remove your comment, unless you submit a confidentiality request that meets the requirements for such treatment under FTC Rule 4.9(c), and the General Counsel grants that request.

Visit the FTC website to read this document and the news release describing it. The FTC Act and other laws the Commission administers permit the collection of public comments to consider and use in this proceeding as appropriate. The Commission will consider all timely and responsive public comments it receives on or before July 11, 2022. For information on the Commission's privacy policy, including routine uses permitted by the Privacy Act, see https://www.ftc.gov/siteinformation/privacypolicy.

Because written comments appear adequate to present the views of all interested parties, the Commission has not scheduled an opportunity for presentation of oral comments regarding these proposed amendments. Interested parties may request an opportunity to present views orally. If such a request is made, the Commission will publish a document in the Federal Register stating the time and place for such oral presentation(s) and describing the procedures that will be followed. Interested parties who wish to present oral views must submit a request, on or before July 11, 2022, in the form of a written comment that describes the issues on which the party wishes to speak. If no oral presentations are scheduled, the Commission will base its decision on the written rulemaking record.

IV. Paperwork Reduction Act

The current Rule contains recordkeeping, disclosure, testing, and reporting requirements that constitute information collection requirements as defined by 5 CFR 1320.3(c), the definitional provision within the Office of Management and Budget (OMB) regulations that implement the Paperwork Reduction Act (PRA). OMB has approved the Rule's existing information collection requirements through February 29, 2024 (OMB Control No. 3084-0069). The proposed amendments do not change the substance or frequency of the recordkeeping, disclosure, or reporting requirements and, therefore, do not require further OMB clearance.

V. Regulatory Flexibility Act

The Regulatory Flexibility Act (“RFA”), 5 U.S.C. 601-612, requires that the Commission conduct an analysis of the anticipated economic impact of the proposed amendment on small entities. The RFA requires that the Commission provide an Initial Regulatory Flexibility Analysis (“IRFA”) with a rule unless the Commission certifies that the rule will not have a significant economic impact on a substantial number of small entities. 5 U.S.C. 605. The proposed amendments merely implements routine updates to comparability range information and other minor clarifications. The proposed amendments do not significantly change the substance or frequency of the Rule's recordkeeping, disclosure, or reporting requirements. Thus, the amendments will not have a “significant economic impact on a substantial number of small entities.” 5 U.S.C. 605. The Commission has concluded, therefore, that a regulatory flexibility analysis is not necessary, and certifies, under Section 605 of the Regulatory Flexibility Act (5 U.S.C. 605(b)), that the proposed amendments will not have a significant economic impact on a substantial number of small entities.

List of Subjects in 16 CFR Part 305

Advertising, Energy conservation, Household appliances, Labeling, Reporting and recordkeeping requirements.

For the reasons stated above, the Commission proposes to amend part 305 of title 16 of the Code of Federal Regulations as follows:

PART 305—ENERGY AND WATER USE LABELING FOR CONSUMER PRODUCTS UNDER THE ENERGY POLICY AND CONSERVATION ACT (“ENERGY LABELING RULE”)

1. The authority citation for part 305 continues to read as follows:

Authority: 42 U.S.C. 6294.

2. In § 305.10, revise paragraph (f) to read as follows:

§ 305.10 Determinations of capacity.

* * * * *

(f) Room air conditioners and portable air conditioners. The capacity for room air conditioners and portable air conditioners shall be determined according to 10 CFR part 430, subpart B, with rounding determined in accordance with 10 CFR part 430.

* * * * *

3. In § 305.25, revise paragraphs (f)(4) and (5) to read as follows:

§ 305.25 Television labeling.

* * * * *

(f) * * *

(4) Estimated annual energy costs determined in accordance with this part and based on a usage rate of 5 hours in on mode and 19 hours in standby (sleep) mode per day and an electricity cost rate of 14 cents per kWh.

(5) The applicable ranges of comparability for estimated annual energy costs based on the labeled product's diagonal screen size, according to the following table:

Screen size (diagonal) | Annual energy cost ranges for televisions: Low | Annual energy cost ranges for televisions: High
16-20″ (16.0 to 20.49″) | $5 | $6
21-23″ (20.5 to 23.49″) | 4 | 9
24-29″ (23.5 to 29.49″) | 3 | 10
30-34″ (29.5 to 34.49″) | 5 | 16
35-39″ (34.5 to 39.49″) | 9 | 17
40-44″ (39.5 to 44.49″) | 7 | 28
45-49″ (44.5 to 49.49″) | 8 | 34
50-54″ (49.5 to 54.49″) | 10 | 37
55-59″ (54.5 to 59.49″) | 9 | 47
60-64″ (59.5 to 64.49″) | 13 | 37
65-69″ (64.5 to 69.49″) | 13 | 101
69.5″ or greater | 7 | 160

* * * * *

4. Revise appendices A1 through A9 to Part 305 to read as follows:

Appendix A1 to Part 305—Refrigerators With Automatic Defrost

Range Information
Manufacturer's rated total refrigerated volume in cubic feet | Range of estimated annual operating costs (dollars/year): Low | Range of estimated annual operating costs (dollars/year): High
Less than 10.5 | $20 | $45
10.5 to 12.4 | 28 | 40
12.5 to 14.4 | 33 | 47
14.5 to 16.4 | 33 | 46
16.5 to 18.4 | 38 | 52
18.5 to 20.4 | 42 | 50
20.5 to 22.4 | 35 | 57
22.5 to 24.4 | 51 | 59
24.5 to 26.4 | (*) | (*)
26.5 to 28.4 | (*) | (*)
28.5 and over | (*) | (*)

Appendix A2 to Part 305—Refrigerators and Refrigerator-Freezers With Manual Defrost

Range Information
Manufacturer's rated total refrigerated volume in cubic feet | Range of estimated annual operating costs (dollars/year): Low | Range of estimated annual operating costs (dollars/year): High
Less than 10.5 | $11 | $46
10.5 to 12.4 | (*) | (*)
12.5 to 14.4 | (*) | (*)
14.5 to 16.4 | (*) | (*)
16.5 to 18.4 | (*) | (*)
18.5 to 20.4 | (*) | (*)
20.5 to 22.4 | (*) | (*)
22.5 to 24.4 | (*) | (*)
24.5 to 26.4 | (*) | (*)
26.5 to 28.4 | (*) | (*)
28.5 and over | (*) | (*)

Appendix A3 to Part 305—Refrigerator-Freezers With Partial Automatic Defrost

Range Information
Manufacturer's rated total refrigerated volume in cubic feet | Range of estimated annual operating costs (dollars/year): Low | Range of estimated annual operating costs (dollars/year): High
Less than 10.5 | 27 | 55
10.5 to 12.4 | (*) | (*)
12.5 to 14.4 | (*) | (*)
14.5 to 16.4 | (*) | (*)
16.5 to 18.4 | 53 | 53
18.5 to 20.4 | 48 | 55
20.5 to 22.4 | (*) | (*)
22.5 to 24.4 | (*) | (*)
24.5 to 26.4 | (*) | (*)
26.5 to 28.4 | (*) | (*)
28.5 and over | (*) | (*)

Appendix A4 to Part 305—Refrigerator-Freezers With Automatic Defrost With Top-Mounted Freezer No Through-the-Door Ice

Range Information
Manufacturer's rated total refrigerated volume in cubic feet | Range of estimated annual operating costs (dollars/year): Low | Range of estimated annual operating costs (dollars/year): High
Less than 10.5 | $40 | $62
10.5 to 12.4 | 43 | 61
12.5 to 14.4 | 44 | 64
14.5 to 16.4 | 45 | 66
16.5 to 18.4 | 49 | 70
18.5 to 20.4 | 48 | 72
20.5 to 22.4 | 51 | 76
22.5 to 24.4 | 58 | 78
24.5 to 26.4 | 66 | 81
26.5 to 28.4 | (*) | (*)
28.5 and over | (*) | (*)

Appendix A5 to Part 305—Refrigerator-Freezers With Automated Defrost With Side-Mounted Freezer No Through-the-Door Ice

Range Information
Manufacturer's rated total refrigerated volume in cubic feet | Range of estimated annual operating costs (dollars/year): Low | Range of estimated annual operating costs (dollars/year): High
Less than 10.5 | $54 | $82
10.5 to 12.4 | (*) | (*)
12.5 to 14.4 | 39 | 40
14.5 to 16.4 | 49 | 65
16.5 to 18.4 | 69 | 70
18.5 to 20.4 | 66 | 70
20.5 to 22.4 | 70 | 101
22.5 to 24.4 | 78 | 105
24.5 to 26.4 | 80 | 109
26.5 to 28.4 | 91 | 113
28.5 and over | 84 | 118

Appendix A6 to Part 305—Refrigerator-Freezers With Automatic Defrost With Bottom-Mounted Freezer Without No Through-the-Door Ice

Range Information
Manufacturer's rated total refrigerated volume in cubic feet | Range of estimated annual operating costs (dollars/year): Low | Range of estimated annual operating costs (dollars/year): High
Less than 10.5 | $42 | $73
10.5 to 12.4 | 47 | 79
12.5 to 14.4 | 50 | 77
14.5 to 16.4 | 53 | 85
16.5 to 18.4 | 60 | 86
18.5 to 20.4 | 60 | 91
20.5 to 22.4 | 62 | 94
22.5 to 24.4 | 65 | 98
24.5 to 26.4 | 74 | 96
26.5 to 28.4 | 67 | 95
28.5 and over | 91 | 101

Appendix A7 to Part 305—Refrigerator-Freezers With Automatic Defrost With Bottom-Mounted Freezer With Through-the-Door Ice Service

Range Information
Manufacturer's rated total refrigerated volume in cubic feet | Range of estimated annual operating costs (dollars/year): Low | Range of estimated annual operating costs (dollars/year): High
Less than 10.5 | (*) | (*)
10.5 to 12.4 | (*) | (*)
12.5 to 14.4 | (*) | (*)
14.5 to 16.4 | (*) | (*)
16.5 to 18.4 | $80 | $90
18.5 to 20.4 | 83 | 98
20.5 to 22.4 | 91 | 103
22.5 to 24.4 | 77 | 106
24.5 to 26.4 | 89 | 109
26.5 to 28.4 | 83 | 112
28.5 and over | 90 | 113

Appendix A8 to Part 305—Refrigerator-Freezers With Automatic Defrost With Side-Mounted Freezer With Through-the-Door Ice Service

Range Information
Manufacturer's rated total refrigerated volume in cubic feet | Range of estimated annual operating costs (dollars/year): Low | Range of estimated annual operating costs (dollars/year): High
Less than 10.5 | (*) | (*)
10.5 to 12.4 | (*) | (*)
12.5 to 14.4 | (*) | (*)
14.5 to 16.4 | (*) | (*)
16.5 to 18.4 | $87 | $88
18.5 to 20.4 | 78 | 110
20.5 to 22.4 | 72 | 109
22.5 to 24.4 | 76 | 115
24.5 to 26.4 | 81 | 116
26.5 to 28.4 | 89 | 122
28.5 and over | 104 | 124

Appendix A9 to Part 305—All Refrigerators and Refrigerator-Freezers

Range Information
Manufacturer's rated total refrigerated volume in cubic feet | Range of estimated annual operating costs (dollars/year): Low | Range of estimated annual operating costs (dollars/year): High
Less than 10.5 | $11 | $82
10.5 to 12.4 | 28 | 79
12.5 to 14.4 | 33 | 77
14.5 to 16.4 | 33 | 84
16.5 to 18.4 | 38 | 90
18.5 to 20.4 | 42 | 110
20.5 to 22.4 | 35 | 109
22.5 to 24.4 | 51 | 115
24.5 to 26.4 | 66 | 116
26.5 to 28.4 | 67 | 122
28.5 and over | 84 | 124

5. Revise appendices B1 through B3 to Part 305 to read as follows:

Appendix B1 to Part 305—Upright Freezers With Manual Defrost

Range Information
Manufacturer's rated total refrigerated volume in cubic feet | Range of estimated annual operating costs (dollars/year): Low | Range of estimated annual operating costs (dollars/year): High
Less than 5.5 | $18 | $43
5.5 to 7.4 | 35 | 47
7.5 to 9.4 | 34 | 40
9.5 to 11.4 | 36 | 36
11.5 to 13.4 | (*) | (*)
13.5 to 15.4 | 42 | 47
15.5 to 17.4 | 49 | 51
17.5 to 19.4 | (*) | (*)
19.5 to 21.4 | 49 | 56
21.5 to 23.4 | (*) | (*)
23.5 to 25.4 | (*) | (*)
25.5 to 27.4 | (*) | (*)
27.5 to 29.4 | (*) | (*)
29.5 and over | (*) | (*)

Appendix B2 to Part 305—Upright Freezers With Automatic Defrost

Range Information
Manufacturer's rated total refrigerated volume in cubic feet | Range of estimated annual operating costs (dollars/year): Low | Range of estimated annual operating costs (dollars/year): High
Less than 5.5 | $37 | $63
5.5 to 7.4 | (*) | (*)
7.5 to 9.4 | 44 | 69
9.5 to 11.4 | 44 | 67.20
11.5 to 13.4 | 54 | 79
13.5 to 15.4 | 54 | 85
15.5 to 17.4 | 58 | 89
17.5 to 19.4 | 62 | 84
19.5 to 21.4 | 63 | 91
21.5 to 23.4 | 101 | 104
23.5 to 25.4 | (*) | (*)
25.5 to 27.4 | (*) | (*)
27.5 to 29.4 | (*) | (*)
29.5 and over | (*) | (*)

Appendix B3 to Part 305—Chest Freezers and All Other Freezers

Range Information
Manufacturer's rated total refrigerated volume in cubic feet | Range of estimated annual operating costs (dollars/year): Low | Range of estimated annual operating costs (dollars/year): High
Less than 5.5 | $19 | $32
5.5 to 7.4 | 31 | 36
7.5 to 9.4 | 27 | 37
9.5 to 11.4 | 28 | 35
11.5 to 13.4 | 35 | 38
13.5 to 15.4 | 39 | 42
15.5 to 17.4 | 38 | 46
17.5 to 19.4 | 46 | 47
19.5 to 21.4 | 50 | 53
21.5 to 23.4 | 48 | 55
23.5 to 25.4 | 59 | 59
25.5 to 27.4 | (*) | (*)
27.5 to 29.4 | (*) | (*)
29.5 and over | (*) | (*)

6. Revise appendices C1 and C2 to Part 305 to read as follows:

Appendix C1 to Part 305—Compact Dishwashers

Range Information

“Compact” includes countertop dishwasher models with a capacity of fewer than eight (8) place settings. Place settings shall be in accordance with Appendix C to 10 CFR part 430, subpart B. Load patterns shall conform to the operating normal for the model being tested.

Capacity | Range of estimated annual energy costs (dollars/year): Low | Range of estimated annual energy costs (dollars/year): High
Compact | $14 | $32

Appendix C2 to Part 305—Standard Dishwashers

Range Information

“Standard” includes dishwasher models with a capacity of eight (8) or more place settings. Place settings shall be in accordance with Appendix C to 10 CFR part 430, subpart B. Load patterns shall conform to the operating normal for the model being tested.

Capacity | Range of estimated annual energy costs (dollars/year): Low | Range of estimated annual energy costs (dollars/year): High
Standard | $28 | $43

7. Revise appendices D1 through D5 to Part 305 to read as follows:

Appendix D1 to Part 305—Water Heaters—Gas

Range Information
Capacity (first hour rating in gallons) | Range of estimated annual energy costs (dollars/year): Natural gas ($/year): Low | Range of estimated annual energy costs (dollars/year): Natural gas ($/year): High | Range of estimated annual energy costs (dollars/year): Propane ($/year): Low | Range of estimated annual energy costs (dollars/year): Propane ($/year): High
“Very Small”—less than 18 | (*) | (*) | (*) | (*)
“Low”—18 to 50.9 | $162 | $172 | (*) | (*)
“Medium”—51 to 74.9 | 227 | 300 | $460 | $606
“High”—over 75 | 227 | 336 | 460 | 679

Appendix D2 to Part 305—Water Heaters Electric

Range Information
Capacity: First hour rating | Range of estimated annual energy costs (dollars/year): Low | Range of estimated annual energy costs (dollars/year): High
“Very Small”—less than 18 | (*) | (*)
“Low”—18 to 50.9 | $90 | $357
“Medium”—51 to 74.9 | 154 | 630
“High”—over 75 | 173 | 747

Appendix D3 to Part 305—Water Heaters—Oil

Range Information
Capacity: First hour rating | Range of estimated annual energy costs (dollars/year): Low | Range of estimated annual energy costs (dollars/year): High
“Very Small”—less than 18 | (*) | (*)
“Low”—18 to 50.9 | (*) | (*)
“Medium”—51 to 74.9 | (*) | (*)
“High”—over 75 | $625 | $686

Appendix D4 to Part 305—Water Heaters—Instantaneous—Gas

Range Information
Capacity: Capacity (maximum flow rate); gallons per minute (gpm) | Range of estimated annual energy costs (dollars/year): Natural Gas ($/year): Low | Range of estimated annual energy costs (dollars/year): Natural Gas ($/year): High | Range of estimated annual energy costs (dollars/year): Propane ($/year): Low | Range of estimated annual energy costs (dollars/year): Propane ($/year): High
“Very Small”—less than 1.6 | $24 | $30 | $50 | $61
“Low”—1.7 to 2.7 | (*) | (*) | (*) | (*)
“Medium”—2.8 to 3.9 | 183 | 216 | 370 | 437
“High”—over 4.0 | 210 | 253 | 427 | 511

Appendix D5 to Part 305—Water Heaters—Instantaneous—Electric

Range Information
Capacity: Capacity (maximum flow rate); gallons per minute (gpm) | Range of estimated annual energy costs (dollars/year): Low | Range of estimated annual energy costs (dollars/year): High
“Very Small”—less than 1.6 | $82 | $90
“Low”—1.7 to 2.7 | (*) | (*)
“Medium”—2.8 to 3.9 | (*) | (*)
“High”—over 4.0 | (*) | (*)

8. Appendix E to Part 305 is revised to read as follows:

Appendix E1 to Part 305—Room Air Conditioners

Range Information
Manufacturer's rated cooling capacity in Btu's/hr | Range of estimated annual energy costs (dollars/year): Low | Range of estimated annual energy costs (dollars/year): High
Without Reverse Cycle and with Louvered Sides:
Less than 6,000 Btu | $40 | $46
6,000 to 7,999 Btu | 47 | 69
8,000 to 13,999 Btu | 49 | 121
14,000 to 19,999 Btu | 91 | 169
20,000 to 27,999 Btu | 147 | 287
28,000 and more Btu | 275 | 380
Without Reverse Cycle and without Louvered Sides:
Less than 8,000 Btu | (*) | (*)
8,000 to 10,999 Btu | 73 | 102
11,000 to 13,999 Btu | 107 | 140
14,000 to 19,999 Btu | 144 | 162
20,000 and more Btu | (*) | (*)
With Reverse Cycle and with Louvered Sides | 79 | 230
With Reverse Cycle, without Louvered Sides | 81 | 117

9. Revise appendices F1 and F2 to Part 305 to read as follows:

Appendix F1 to Part 305—Standard Clothes Washers

“Standard” includes all household clothes washers with a tub capacity of 1.6 cu. ft. or more.

Range Information
Capacity | Range of estimated annual operating costs (dollars/year): Low | Range of estimated annual operating costs (dollars/year): High
Standard | $33 | $137

Appendix F2 to Part 305—Compact Clothes Washers

“Compact” includes all household clothes washers with a tub capacity of less than 1.6 cu. ft.

Range Information
Capacity | Range of estimated annual operating costs (dollars/year): Low | Range of estimated annual operating costs (dollars/year): High
Compact | $25 | $47

10. Revise appendices G1 through G8 to Part 305 to read as follows:

Appendix G1 to Part 305—Furnaces—Gas

Furnace type | Range of annual fuel utilization efficiencies (AFUEs): Low | Range of annual fuel utilization efficiencies (AFUEs): High
Non-Weatherized Gas Furnaces—All Capacities | 80.0 | 99.0
Weatherized Gas Furnaces—All Capacities | 81.0 | 95.0

Appendix G2 to Part 305—Furnaces—Electric

Furnace type | Range of annual fuel utilization efficiencies (AFUEs): Low | Range of annual fuel utilization efficiencies (AFUEs): High
Electric Furnaces—All Capacities | 100.0 | 100.0

Appendix G3 to Part 305—Furnaces—Oil

Type | Range of annual fuel utilization efficiencies (AFUEs): Low | Range of annual fuel utilization efficiencies (AFUEs): High
Non-Weatherized Oil Furnaces—All Capacities | 83.0 | 96.7
Weatherized Oil Furnaces—All Capacities | (*) | (*)

Appendix G4 to Part 305—Mobile Home Furnaces—Gas

Type | Range of annual fuel utilization efficiencies (AFUEs): Low | Range of annual fuel utilization efficiencies (AFUEs): High
Mobile Home Gas Furnaces—All Capacities | 80.0 | 97.3

Appendix G5 to Part 305—Mobile Home Furnaces—Oil

Type | Range of annual fuel utilization efficiencies (AFUEs): Low | Range of annual fuel utilization efficiencies (AFUEs): High
Mobile Home Oil Furnaces—All Capacities | 80.0 | 87.0

Appendix G6 to Part 305—Boilers—(Gas)

Type | Range of annual fuel utilization efficiencies (AFUEs): Low | Range of annual fuel utilization efficiencies (AFUEs): High
Gas Boilers (except steam)—All Capacities | 84.0 | 96.4
Gas Boilers (steam)—All Capacities | 82 | 83.4

Appendix G7 to Part 305—Boilers—(Oil)

Type | Range of annual fuel utilization efficiencies (AFUEs): Low | Range of annual fuel utilization efficiencies (AFUEs): High
Oil Boilers—All Capacities | 85 | 88.2

Appendix G8 to Part 305—Boilers—(Electric)

Type | Range of annual fuel utilization efficiencies (AFUEs): Low | Range of annual fuel utilization efficiencies (AFUEs): High
Electric Boilers—All Capacities | 100 | 100

11. Revise appendices J1 and J2 to read as follows:

Appendix J1 to Part 305—Pool Heaters—Gas

Range Information
Manufacturer's rated heating capacities | Range of thermal efficiencies (percent): Natural Gas: Low | Range of thermal efficiencies (percent): Natural Gas: High | Range of thermal efficiencies (percent): Propane: Low | Range of thermal efficiencies (percent): Propane: High
All capacities | 82.0 | 95.0 | 82.0 | 95.0

Appendix J2 to Part 305—Pool Heaters—Oil

Range Information
Manufacturer's rated heating capacities | Range of thermal efficiencies (percent): Low | Range of thermal efficiencies (percent): High
All capacities | (*) | (*)

12. Revise appendices K1 and K2 to read as follows:

Appendix K1 to Part 305—Representative Average Unit Energy Costs for Refrigerators, Refrigerator-Freezers, Freezers, Clothes Washers, Dishwashers, and Water Heater Labels

This Table contains the representative unit energy costs that must be utilized to calculate estimated annual energy cost disclosures required under this Part for refrigerators, refrigerator-freezers, freezers, clothes washers, dishwashers, and water heaters. This Table is based on information published by the U.S. Department of Energy in 2022.

Type of energy | In commonly used terms | As required by DOE test procedure
Electricity | ¢14/kWh ¹ ² | $.1400/kWh
Natural Gas | $1.21/therm ³, $12.6/MCF ⁵ ⁶ | $0.00001209/Btu ⁴
No. 2 heating oil | $3.45/gallon ⁷ | $0.00002511/Btu
Propane | $223/gallon ⁸ | $0.00002446/Btu
Kerosene | $4.01/gallon ⁹ | $0.00002973/Btu
¹ kWh stands for kiloWatt hour.
² 1 kWh = 3,412 Btu.
³ 1 therm = 100,000 Btu. Natural gas prices include taxes.
⁴ Btu stands for British thermal unit.
⁵ MCF stands for 1,000 cubic feet.
⁶ For the purposes of this table, 1 cubic foot of natural gas has an energy equivalence of 1,039 Btu.
⁷ For the purposes of this table, one gallon of No. 2 heating oil has an energy equivalence of 13,738 Btu.
⁸ For the purposes of this table, one gallon of liquid propane has an energy equivalence of 91,333 Btu.
⁹ For the purposes of this table, one gallon of kerosene has an energy equivalence of 135,000 Btu.

Appendix K2 to Part 305—Representative Average Unit Energy Costs for Room Air Conditioner and Portable Air Conditioner Labels

This Table contains the representative unit energy costs that must be utilized to calculate estimated annual energy cost disclosures required under this Part for room air conditioners and portable air conditioners. This Table is based on information published by the U.S. Department of Energy in 2017.

Type of energy | In commonly used terms | As required by DOE test procedure
Electricity | ¢13/kWh ¹ | $.1300/kWh
¹ kWh stands for kilowatt hour.

* * * * *

15. In appendix L, revise prototype labels 1, 2, 8, 9, 10, and sample labels 1, 2, 3, 4, 5, 6, 9, 9A, 14, 15, and 16 to read as follows

* * * * *

BILLING CODE 6750-01-P

By direction of the Commission.
April J. Tabor,
Secretary.

Dissenting Statement of Commissioner Christine S. Wilson

Today the Commission announces proposed required updates to the compatibility ranges in the Energy Labeling Rule. Since 2015, the Commission has sought comment on provisions of this Rule on several occasions and has made numerous amendments to the Rule.¹ On each occasion, I have urged the Commission to seek comment on the more prescriptive aspects of this Rule. My concerns about the highly prescriptive nature of this Rule are detailed in my prior dissents.²

¹ See 81 FR 62861 (Sept. 12, 2016) (seeking comment on proposed amendments regarding portable air conditioners, ceiling fans, and electric water heaters); 84 FR 9261 (Mar. 14, 2019) (proposing amendments to organize the Rule's product descriptions); 85 FR 20218 (Apr. 10, 2020) (seeking comment on proposed amendments regarding central and portable air conditioners).

² See Dissenting Statement of Commissioner Christine S. Wilson on the Notice of Proposed Rulemaking: Energy Labeling Rule (Dec. 10, 2018) (expressing my view that the Commission should seek comment on the prescriptive labeling requirements), https://www.ftc.gov/public-statements/2018/12/dissenting-statement-commissioner-christine-s-wilson-notice-proposed; Dissenting Statement of Commissioner Christine S. Wilson on the Notice of Proposed Rulemaking: Energy Labeling Rule (Oct. 22, 2019) (urging the Commission to seek comment on the labeling requirements), https://www.ftc.gov/system/files/documents/public_statements/1551786/r611004_wilson_dissent_energy_labeling_rule.pdf; Dissenting Statement of Commissioner Christine S. Wilson on the Notice of Proposed Rulemaking: Energy Labeling Rule (Dec. 22, 2020), https://www.ftc.gov/system/files/documents/public_statements/1585242/commission_wilson_dissenting_statement_energy_labeling_rule_final12-22-2020revd2.pdf; Dissenting Statement of Commissioner Christine S. Wilson on the Notice of Amendments to the Energy Labeling Rule (Oct. 6, 2021), https://www.ftc.gov/system/files/documents/public_statements/1597166/commission_wilson_dissenting_statement_energy_labeling_rule_2021-10-04_final.pdf.

In March 2020, we sought comment on some of the more prescriptive provisions of the Energy Labeling Rule ³ and received many interesting and thoughtful comments.⁴ Rather than act on these comments or proposals, though, the Commission chose to finalize only proposals necessary to conform to Department of Energy changes.⁵

³ See Concurring Statement of Commissioner Christine S. Wilson on the Notice of Proposed Rulemaking: Energy Labeling Rule (Mar. 20, 2020), https://www.ftc.gov/system/files/documents/public_statements/1569815/r611004_wilson_statement_energy_labeling.pdf.

⁴ See, e.g., Air-Conditioning, Heating and Refrigeration Institute (AHRI) Comment (#33-09), available at: https://www.regulations.gov/document?D=FTC-2020-0033-0009; Association of Home Appliance Manufacturers (AHAM) Comment (#33-04), available at: https://www.regulations.gov/document?D=FTC-2020-0033-0004; Goodman Manufacturing Comment (#33-08), available at: https://www.regulations.gov/document?D=FTC-2020-0033-0008.

⁵ See Dissenting Statement of Commissioner Christine S. Wilson on Notice of Proposed Rulemaking: Energy Label Rule (Dec. 22, 2020), https://www.ftc.gov/system/files/documents/public_statements/1585242/commission_wilson_dissenting_statement_energy_labeling_rule_final12-22-2020revd2.pdf.

Today, we again make necessary changes to the Rule but fail to take the opportunity to revisit the Rule's highly prescriptive requirements. I acknowledge that the FTC is required to publish an Energy Labeling Rule, that manufacturers are required to post an Energy Label on their products and that consumers likely benefit from some uniformity of information in these labels. But it is unnecessary for our labeling guidance to include highly prescriptive requirements that detail the trim size dimensions for labels, including the precise width (between 5 ¼″ to 5 ½″) and length (between 7 ⅜″ and 7 ⅝″); the number of picas for the copy set (between 27 and 29); the type style (Arial) and setting; the weight of the paper stock on which the labels are printed (not less than 58 pounds per 500 sheets or equivalent); and a suggested minimum peel adhesive capacity of 12 ounces per square inch.⁶

⁶ See e.g., 16 CFR 305.13, 305.20 (specifying such requirements for refrigerators, refrigerator-freezers, freezers, dishwashers, clothes washers, water heaters, room air conditioners, and pool heaters (305.13) and for central air conditioners, heat pumps, and furnaces (305.20)).

The Notice we issue today includes 13 pages of prototype labels, complete with the array of requirements described above. For example, Prototype Label 10 for Vertical Rectangular Television Labels specifies not only the categories of information to be displayed, but also the precise font and size in which that information is to be printed. The Estimated Yearly Energy Cost must appear in 12/14.4 Arial Narrow Bold. And while the phrase “US Government” at the top of the label must be printed in 7/9 pt Arial Narrow, “visitftc.gov/energy” at the bottom must be printed in 8 pt Arial Narrow. As I have indicated on previous occasions, we could identify the categories of information to be disclosed clearly and conspicuously, and then allow companies to create appropriate labels.

Once again, I urge the Commission to act on the comments we received in 2020, eliminate the more prescriptive aspects of the Rule, and maximize the positive impact of this Rule for consumers. As long as we are statutorily mandated to maintain this Rule, we should endeavor to make it beneficial for consumers and competition.

Regrettably, the Commission once again has chosen to forego this route, instead making only minor changes to the Rule necessary for conformity. Accordingly, I dissent.

[FR Doc. 2022-11126 Filed 5-24-22; 8:45 am]

BILLING CODE 6750-01-C